ENVIRONMENTAL PROTECTION AGENCY

[EPA-HQ-OA-2013-0122; 9793-2]

National Advisory Council for Environmental Policy and Technology

AGENCY: Environmental Protection Agency (EPA).

ACTION: Notice of Federal Advisory Committee Meeting Postponed and Rescheduled as a Teleconference.

SUMMARY: Under the Federal Advisory Committee Act, Pub. L. 92463, EPA gives notice that the public meeting for the National Advisory Council for Environmental Policy and Technology (NACEPT) initially scheduled for March 7-8, 2013, was postponed due to the predicted inclement weather that closed the Federal Government. The NACEPT meeting has been rescheduled as a teleconference for April 4, 2013. NACEPT provides advice to the EPA Administrator on a broad range of environmental policy, technology, and management issues. NACEPT represents diverse interests from academia, industry, non-governmental organizations, and local, State, and tribal governments.

Purpose of Meeting: NACEPT will discuss and approve draft recommendations in response to the National Academy of Sciences' report on “Sustainability and the U.S. EPA.” NACEPT's second letter on sustainability will address two topics: (1) what strengths EPA can leverage to successfully deploy sustainability practices across the Agency, and (2) what 3-5 year breakthrough objectives can help bring about sustainability implementation. The agenda and meeting materials will be available at http://www.epa.gov/ofacmo/nacept/cal-nacept.htm and http://www.regulations.gov under Docket ID: EPA-HQ-OA-2013-0122.

DATES: NACEPT will now hold a teleconference meeting on Thursday, April 4, 2013, from 12:00 p.m. to 4:00 p.m. (EST). Due to budgetary uncertainties, EPA is announcing this teleconference with less than 15 calendar days public notice.

FOR FURTHER INFORMATION CONTACT: For further information regarding the teleconference and background materials, contact Mark Joyce, Acting Designated Federal Officer, at joyce.mark@epa.gov, (202) 564-2130, U.S. EPA, Office of Federal Advisory Committee Management and Outreach (1601M), 1200 Pennsylvania Avenue NW., Washington, DC 20460.

SUPPLEMENTARY INFORMATION: Requests to make oral comments or to provide written comments to NACEPT should be sent to Eugene Green at green.eugene@epa.gov by Friday, March 29, 2013. The teleconference is open to the public, with limited conference lines available on a first-come, first-served basis. Members of the public wishing to attend should contact Eugene Green at green.eugene@epa.gov or (202) 564-2432 by March 29, 2013.

Meeting Access: Information regarding accessibility and/or accommodations for individuals with disabilities should be directed to Eugene Green at the email address or phone number listed above. To ensure adequate time for processing, please make requests for accommodations at least 10 days prior to the meeting.

Dated: March 14, 2013.
Mark Joyce,
Acting Designated Federal Officer.

[FR Doc. 2013-06546 Filed 3-20-13; 8:45 am]

BILLING CODE 6560-50-P